DEPARTMENT OF HEALTH AND HUMAN SERVICES

Administration for Children and Families

Public Education Study on Public Knowledge of Abstinence and Abstinence Education

OMB No.: New Collection.

Description: In support of the goal to prevent unwed childbearing, pregnancy, and sexually transmitted diseases, Congress has recently authorized funding increases to support abstinence education.

To learn more about the public's views, the Administration for Children and Families (ACF) will conduct a public opinion survey of a nationally representative sample of adolescents (age 12 to 18) and their parents to examine current attitudes on abstinence and knowledge of abstinence education. The survey data will be used to inform current and future public education campaigns. In addition, the information gathered will assist ACF with grant administration and technical assistance activities. The survey will ask parents (one parent per adolescent) and adolescents about their views and attitudes about abstinence until marriage, awareness of abstinence education, and views and attitudes about abstinence education. Each parent and adolescent interview will take approximately 20 minutes to complete.

Respondents: A nationally representative sample of adolescents will be selected through a random-digit-dial sample of households with landline telephones.

Annual Burden Estimates

Instrument | Number of respondents | Number of responses per respondent | Average burden hours per response | Total burden hours
Telephone interview | 2,000 (1,000 adolescent/parent pairs) | 1 | 0.33 | 660

Total annual burden estimates: 660.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: April 2, 2007.
Robert Sargis,
Reports Clearance Officer.

[FR Doc. 07-1673 Filed 4-4-07; 8:45 am]

BILLING CODE 4184-01-M